DEPARTMENT OF TRANSPORTATION

Federal Aviation Administration

14 CFR Part 39

[Docket No. 2001-CE-45-AD]

RIN 2120-AA64

Airworthiness Directives; Univair Aircraft Corporation Alon A-2 and A2-A, ERCO 415-C, 415-CD, 415-D, E, and G, Forney F-1 and F-1A, and Mooney M10 Airplanes

AGENCY: Federal Aviation Administration, DOT.

ACTION: Notice of proposed rulemaking (NPRM).

SUMMARY: This document proposes to adopt a new airworthiness directive (AD) that would apply to all Univair Aircraft Corporation (Univair) Alon A-2 and A2-A, ERCO 415-C, 415-CD, 415-D, E, and G, Forney F-1 and F-1A, and Mooney M10 airplanes. This proposed AD would require you to repetitively inspect the wing center section for evidence of corrosion by installing inspection openings or by the use of a scope and light source, e.g., fiberscope borescope or an endoscope, that meets specified criteria. This proposed AD would also require you to repair or replace any parts where corrosion or corrosion damage was found, install cover plates where inspection openings were made, and send inspection results to Federal Aviation Administration (FAA). This proposed AD is the result of several reports of corrosion being found throughout the wing center section structure. The actions specified by this proposed AD are intended to detect and correct corrosion in the wing center section which could result in failure of the wing center section structure during flight. Such failure could lead to loss of control of the airplane.

DATES: The FAA must receive any comments on this proposed rule on or before June 3, 2002.

ADDRESSES: Submit comments to FAA, Central Region, Office of the Regional Counsel, Attention: Rules Docket No. 2001-CE-45-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2001-CE-45-AD” in the subject line. If you send comments electronically as attached electronic files, the files must be formatted in Microsoft Word 97 for Windows or ASCII text.

You may get service information that applies to this proposed AD from Univair Aircraft Corporation, 2500 Himalaya Road, Aurora, Colorado 80011, telephone: (303) 375-8882; facsimile: (303) 375-8888. You may also view this information at the Rules Docket at the address above.

FOR FURTHER INFORMATION CONTACT: Roger Caldwell, Aerospace Engineer, FAA, Denver Aircraft Certification Office, 26805 East 68th Avenue, Room 214, Denver, Colorado 80249-6361; telephone: (303) 342-1086; facsimile: (303) 342-1088.

SUPPLEMENTARY INFORMATION:

Comments Invited

How Do I Comment on This Proposed AD?

The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are There Any Specific Portions of This Proposed AD I Should Pay Attention To?

The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How Can I Be Sure FAA Receives My Comment?

If you want FAA to acknowledge the receipt of your mailed comments, you must include a self-addressed, stamped postcard. On the postcard, write “Comments to Docket No. 2001-CE-45-AD.” We will date stamp and mail the postcard back to you.

Discussion

What Events Have Caused This Proposed AD?

The FAA has received several reports of severe corrosion being found throughout the wing center section of the affected model airplanes. We have determined that the original design configuration of these airplanes does not provide adequate means for routine visual inspection of the wing center section wing walkway boxes. The inability to inspect this area has resulted in corrosion being undetected on these airplanes.

What Are the Consequences if the Condition Is Not Corrected?

If not detected and corrected, the wing center section structure could fail during flight. Such failure could lead to loss of control of the airplane.

Is There Service Information That Applies to This Subject?

Univair has issued Univair Aircraft Corporation Service Bulletin No. 31, date January 29, 2002.

What Are the Provisions of This Service Information?

The service bulletin includes procedures for:

—installing inspection openings and cover plate assemblies;

—repetitively inspecting for corrosion and corrosion damage using the inspection openings or a specified scope and light source, e.g., fiberscope borescope or an endoscope; and

—repairing or replacing any parts where corrosion or corrosion damage was found.

The FAA's Determination and an Explanation of the Provisions of This Proposed AD

What Has FAA Decided?

After examining the circumstances and reviewing all available information related to the incidents described above, we have determined that:

—the unsafe condition referenced in this document exists or could develop on other Univair Alon A-2 and A2-A, ERCO 415-C, 415-CD, 415-D, E, and G, Forney F-1 and F-1A, and Mooney M10 airplanes of the same type design;

—the actions specified in the previously-referenced service information should be accomplished on the affected airplanes; and

—AD action should be taken in order to correct this unsafe condition.

What Would This Proposed AD Require?

This proposed AD would require you to incorporate the actions in the previously-referenced service bulletin and report any damage found to FAA.

Cost Impact

How Many Airplanes Would This Proposed AD Impact?

We estimate that this proposed AD affects 2,600 airplanes in the U.S. registry.

What Would be the Cost Impact of This Proposed AD on Owners/Operators of the Affected Airplanes?

We estimate the following costs to accomplish the proposed installation of the inspection openings:

Labor cost | Parts cost | Total cost per airplane
10 workhours × $60 per hour = $600 | $175 | $775

We estimate the following costs to accomplish the proposed inspection:

Labor cost | Parts cost | Total cost per airplane | Total cost on U.S. operators
2 workhours × $60 per hour = $120 | $450 for purchase of a borescope or an endoscope, if applicable. | $120 or $570 | $120 × 2,600 = $312,000 or $570 × 2,600 = $1,482,000.

The FAA has no method of determining the number of repetitive inspections each owner/operator would incur over the life of each of the affected airplanes so the cost impact is based on the initial inspection.

The FAA has no method of determining the number of repairs or replacements each owner/operator would incur over the life of each of the affected airplanes based on the results of the proposed inspections. We have no way of determining the number of airplanes that may need such repair. The extent of damage may vary on each airplane.

Compliance Time of This Proposed AD

What Would be the Compliance Time of This Proposed AD?

The compliance time of this proposed AD is “within the next 12 calendar months after the effective date of this AD and thereafter at intervals not to exceed 12 calendar months or 100 hours time-in-service (TIS), whichever occurs first”.

Why Is the Proposed Compliance Time Presented in Calendar Time Instead of Hours Time-in-Service (TIS)?

The unsafe condition specified by this proposed AD is caused by corrosion. Corrosion can occur regardless of whether the airplane is in operation or is in storage. Therefore, to assure that the unsafe condition specified in this proposed AD does not go undetected for a long period of time, the compliance is presented in calendar time instead of hours TIS.

Regulatory Impact

Would This Proposed AD Impact Various Entities?

The regulations proposed herein would not have a substantial direct effect on the States, on the relationship between the national government and the States, or on the distribution of power and responsibilities among the various levels of government. Therefore, it is determined that this proposed rule would not have federalism implications under Executive Order 13132.

Would This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Univair Aircraft Corporation: Docket No. 2001-CE-45-AD

(a) What airplanes are affected by this AD? This AD affects the following airplane models and serial numbers that are certificated in any category:

Model | Serial numbers
Alon A-2 and A2-A | All
ERCO 415-C, 415-CD, 415-D, E, and G | All
Forney F-1 and F-1A | All
Mooney M10 | All

(b) Who must comply with this AD? Anyone who wishes to operate any of the airplanes identified in paragraph (a) of this AD must comply with this AD.

(c) What problem does this AD address? The actions specified by this AD are intended to detect and correct corrosion in the wing center section which could result in failure of the wing center section structure during flight. Such failure could lead to loss of control of the airplane.

(d) What actions must I accomplish to address this problem? To address this problem, you must accomplish the following:

Actions | Compliance | Procedures
(1) Inspect the wing center section for corrosion or corrosion damage by accomplishing one of the following methods: | Within the next 12 calendar months after the effective date of this AD and thereafter at intervals not to exceed 12 calendar months or 100 hours time-in-service (TIS), whichever occurs first | In accordance with the Procedures section of Univair Aircraft Corporation Service Bulletin No. 31, dated January 29, 2002, and Advisory Circulary 43-4A, Corrosion Control for Aircraft.
(i) Install inspection openings to gain access to the wing walkway box structure and inspect the wing center structure for corrosion or corrosion damage; or
(ii) Use a scope and light source, e.g., fiberscope borescope or an endoscope (as specified in Appendix 1 of this AD) to inspect the wing center structure for corrosion or corrosion damage.
(2) If corrosion or corrosion damage is found during any inspection required in paragraph (d)(1) of this AD, repair of replace components of the wing center section | Prior to further flight after any inspection in which the corrosion or corrosion damage is found | In accordance with the Procedures section of Univair Aircraft Corporation Service Bulletin No. 31, dated January 29, 2002, the applicable maintenance manual, and Advisory Circular 43-4A, Corrosion Control for Aircraft.
(3) If inspection openings were installed in accordance with paragraph (d)(1)(i) of this AD, install cover plate assemblies. | Prior to further flight after each inspection or repair required in paragraphs (d)(1) and (d)(2) of this AD | In accordance with the Procedures section of Unvair Aircraft Corporation Service Bulletin No. 31, dated January 29, 2002.
(4) If any damage is found during any inspection required by this AD, submit a Malfunction or Defect Report (M or D), FAA Form 8010-4, to the FAA. | Within 10 days after the inspection in which the corrosion or damage was found or within 10 days after the effective date of this AD, whichever occurs later | Send the report to Roger Caldwell, FAA, at the address in paragraph (f) of this AD. You may also file electronically as discussed in this AD.
(i) Include the airplane model and serial number, the extent of the damage (location and type), and the total number of hours TIS on the damaged wing.
(ii) You may submit M or D reports electronically by accessing the FAA AFS-600 web page at http://av-info.faa.gov/isdr/. You will lose access to the report once electronically submitted. We recommend you print two copies prior to submitting the report. Forward one copy to the Denver Aircraft Certification Office (ACO) and keep the one copy for your records. The Office of Management and Budget (OMB) approved the information collection requirements contained in this regulation under the provisions of the Paperwork Reduction Act of 1980 (44 U.S.C. 3501 et seq.) and assigned OMB Control Number 2120-0056.

Note 1: We have determined that Olympus OSF Endoscope (sigmoidoscope) with a Fujinon FIL-150 light source is acceptable for this inspection. Other scopes and light sources meeting the minimum characteristics stated in Appendix 1 of this AD are also acceptable.

(e) Can I comply with this AD in any other way? You may use an alternative method of compliance or adjust the compliance time if:

(1) Your alternative method of compliance provides an equivalent level of safety; and

(2) The Manager, Denver Aircraft Certification Office (ACO), approves your alternative. Submit your request through an FAA Principal Maintenance Inspector, who may add comments and then send it to the Manager, Denver ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roger Caldwell, Aerospace Engineer, FAA, Denver Aircraft Certification Office, 26805 East 68th Avenue, Room 214, Denver, Colorado 80249-6361; telephone: (303) 342-1086; facsimile: (303) 342-1088.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Univair Aircraft Corporation, 2500 Himalaya Road, Aurora, Colorado 80011, telephone: (303) 375-8882; facsimile: (303) 375-8888. You may view these documents at FAA, Central Region, Office of the Regional Counsel, 901 Locust, Room 506, Kansas City, Missouri 64106.

Appendix 1 to Docket No. 2001-CE-45-AD

Minimum characteristic requirements for the scope and light source, e.g., fiberscope boroscope or endoscope.

(1) Must be a remote high intensity light source of 150 Watts halogen or better.

(2) The optical system must be of a quality such that it remains constantly in focus from about 4 millimeters (0.16 inch) to infinity.

(3) When the tip is approximately 4 millimeters from the inspected surface, a magnification of about 10X must be achieved.

(4) The image guide and protective sheath length must be at least 2 feet for more, and the distal tip diameter must be 0.450 inch or larger.

(5) There must be control handles for four-way tip articulation of the last 4 to 5 inches for a minimum of 100 degrees for each direction.

Issued in Kansas City, Missouri, on March 27, 2002.
James E. Jackson,
Acting Manager, Small Airplane Directorate, Aircraft Certification Service.

[FR Doc. 02-7996 Filed 4-2-02; 8:45 am]

BILLING CODE 4910-13-P